ENVIRONMENTAL PROTECTION AGENCY

[FRL-9933-07-OARM]

Good Neighbor Environmental Board; Notification of Public Advisory Committee Meeting

AGENCY: Environmental Protection Agency (EPA).

ACTION: Notice of Public Advisory Committee meeting.

SUMMARY: Pursuant to the Federal Advisory Committee Act, Public Law 92-463, notice is hereby given that the Good Neighbor Environmental Board will hold a public meeting on Thursday, September 17 and Friday, September 18, 2015 in San Diego, CA. The meeting is open to the public.

DATES: The Good Neighbor Environmental Board will hold an open meeting on Thursday, September 17 from 9:00 a.m. (registration at 8:30 a.m.) to 5:45 p.m. The following day, Friday, September 18 the Board will meet from 8:30 a.m. (registration at 8:00 a.m.) until 4:00 p.m.

SUPPLEMENTARY INFORMATION: Background: The Good Neighbor Environmental Board (Board) is a federal advisory committee chartered under the Federal Advisory Committee Act, PL 92463. By statute, the Board is required to submit an annual report to the President and Congress on environmental and infrastructure issues along the U.S. border with Mexico.

Purpose of Meeting: The purpose of this open meeting is to discuss the Good Neighbor Environmental Board's upcoming advice letter and Seventeenth Report. Both the advice letter and the report will focus on climate change resiliency in the U.S.-Mexico border region.

ADDRESSES: The meeting will be held at the Wyndham San Diego Bayside, 1355 North Harbor Drive, San Diego, CA, 92101. The phone number is 1-619-232-3861. The meeting is open to the public, with limited seating on a first-come, first-serve basis.

General Information: The agenda will be available at http://www2.epa.gov/faca/gneb. General information about the Board can be found on its Web site at http://www2.epa.gov/faca/gneb. If you wish to make oral comments or submit written comments to the Board, please contact Ann-Marie Gantner at least five days prior to the meeting. Written comments should be submitted Ann-Marie Gantner at gantner.ann-marie@epa.gov.

Meeting Access: For information on access or services for individuals with disabilities, please contact Ann-Marie Gantner at (202) 564-4330 or email at gantner.ann-marie@epa.gov. To request accommodation of a disability, please contact Ann-Marie Gantner at least 10 days prior to the meeting to give EPA as much time as possible to process your request.

Dated: August 18, 2015.
Ann-Marie Gantner,
Acting Designated Federal Officer.

[FR Doc. 2015-21016 Filed 8-24-15; 8:45 am]

BILLING CODE 6560-50-P